NUCLEAR REGULATORY COMMISSION

[NRC-2013-0001]

Sunshine Act Meeting Notice

DATES: Weeks of December 2, 9, 16, 23, 30, 2013, January 6, 2014.

PLACE: Commissioners' Conference Room, 11555 Rockville Pike, Rockville, Maryland.

STATUS: Public and Closed.

Week of December 2, 2013

There are no meetings scheduled for the week of December 2, 2013.

Week of December 9, 2013—Tentative

There are no meetings scheduled for the week of December 9, 2013.

Week of December 16, 2013—Tentative

There are no meetings scheduled for the week of December 16, 2013.

Week of December 23, 2013—Tentative

There are no meetings scheduled for the week of December 23, 2013.

Week of December 30, 2013—Tentative

There are no meetings scheduled for the week of December 30, 2013.

Week of January 6, 2014—Tentative

Monday, January 6, 2014

9:00 a.m.—Briefing on Spent Fuel Pool Safety and Consideration of Expedited Transfer of Spent Fuel to Dry Casks (Public Meeting) (Contact: Kevin Witt, 301-415-2145).

This meeting will be webcast live at the Web address— http://www.nrc.gov/.

Monday, January 6, 2014

1:30 p.m.—Briefing on Flooding and Other Extreme Weather Events (Public Meeting) (Contact: George Wilson, 301-415-1711).

This meeting will be webcast live at the Web address— http://www.nrc.gov/.

Friday, January 10, 2014

9:00 a.m.—Briefing on the NRC Staff's Recommendations to Disposition Fukushima Near-Term Task Force (NTTF) Recommendation 1 on Improving NRC's Regulatory Framework (Public Meeting) (Contact: Dick Dudley, 301-415-1116).

This meeting will be webcast live at the Web address— http://www.nrc.gov/.

* * * * *

Additional Information

The Briefing on Spent Fuel Pool Safety and Consideration of Expedited Transfer of Spent Fuel to Dry Casks, postponed from November 21, 2013, and the Briefing on Flooding and Other Extreme Weather Events postponed from October 16, 2013, have been rescheduled on January 6, 2014.

* * * * *

The schedule for Commission meetings is subject to change on short notice. To verify the status of meetings, call (recording)—301-415-1292. Contact person for more information: Rochelle Bavol, 301-415-1651.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g. braille, large print), please notify Kimberly Meyer, NRC Disability Program Manager, at 301-287-0727, or by email at Kimberly.Meyer-Chambers@nrc.gov. Determinations on requests for reasonable accommodation will be made on a case-by-case basis.

* * * * *

Members of the public may request to receive this information electronically. If you would like to be added to the distribution, please contact the Office of the Secretary, Washington, DC 20555 (301-415-1969), or send an email to Darlene.Wright@nrc.gov.

Dated: November 27, 2013.
Rochelle C. Bavol,
Policy Coordinator, Office of the Secretary.

[FR Doc. 2013-29062 Filed 12-2-13; 4:15 pm]

BILLING CODE 7590-01-P